DEPARTMENT OF ENERGY

Federal Energy Regulatory Commission

Combined Notice of Filings

Take notice that the Commission has received the following Natural Gas Pipeline Rate and Refund Report filings:

Filings Instituting Proceedings

Docket Numbers: RP26-318-000.

Applicants: Cygnet Energy Ltd., Kiwetinohk Energy Corp, Kiwetinohk Marketing US Corp.

Description: Joint Petition for Limited Waiver of Capacity Release Regulations, et al. of Cygnet Energy Ltd., et al.

Filed Date: 12/23/25.

Accession Number: 20251223-5395.

Comment Date: 5 p.m. ET 1/5/26.

Docket Numbers: RP26-319-000.

Applicants: Southeast Supply Header, LLC.

Description: § 4(d) Rate Filing: Various Jan 1, 2026 Negotiated Rate Agreements to be effective 1/1/2026.

Filed Date: 12/29/25.

Accession Number: 20251229-5078.

Comment Date: 5 p.m. ET 1/12/26.

Docket Numbers: RP26-320-000.

Applicants: Gillis Hub Pipeline, LLC.

Description: § 4(d) Rate Filing: Filing of Negotiated Rate, Conforming IW Agreements 12.2.25 to be effective 1/1/2026.

Filed Date: 12/29/25.

Accession Number: 20251229-5227.

Comment Date: 5 p.m. ET 1/12/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 29, 2025.
Carlos D. Clay,
Deputy Secretary.

[FR Doc. 2025-24158 Filed 12-31-25; 8:45 am]

BILLING CODE 6717-01-P